DEPARTMENT OF THE INTERIOR

Bureau of Land Management

[UT-910-05-1040-PH-24-1A]

Notice of Resource Advisory Council Call for Nominations; Utah

AGENCY: Bureau of Land Management, Interior.

ACTION: Notice of Utah Resource Advisory Council (RAC) Call for Nominations.

SUMMARY: The Federal Land Policy and Management Act (FLPMA) (43 U.S.C. 1730) directs the Secretary of the Interior to involve the public in planning and issues related to management of lands administered by the Bureau of Land Management (BLM). Section 309 of FLPMA directs the Secretary to select 10 to 15 member citizen-based advisory councils, which are consistent with the requirements of the Federal Advisory Committee Act (FACA). As required by FACA, Resource Advisory Council (RAC) membership must be balanced and representative of the various interests concerned with the management of the public lands. The BLM regulations governing RACs are found at 43 CFR part 1784.

The BLM Utah State Director is issuing a call for nominations for a position on the advisory council. There is a vacant seat in Category Three (representing Holders of State, county, or local elected office; employees of a State agency responsible for management of natural resources; members of an Indian Tribe; academicians involved in natural sciences; and the public-at-large). Upon appointment, the individual selected to this position will fill the seat until September 19, 2007, the remainder of this position's term.

DATES: BLM will accept public nominations until December 27, 2004. Applicants are requested to submit a completed nomination form and nomination letters to the address listed below no later than December 27, 2004.

FOR FURTHER INFORMATION CONTACT: Sherry Foot, Special Programs Coordinator, Utah State Office, Bureau of Land Management, 324 South State Street, Salt Lake City, Utah 84111; phone (801) 539-4195.

SUPPLEMENTARY INFORMATION: Individuals may nominate themselves or others. Nominees must be residents of Utah. BLM will evaluate nominees based on their education, training, experience, and their knowledge of the geographical area of the RAC. Nominees should demonstrate a commitment to collaborative resource decision making.

The following must accompany nominations:

• Letters of reference from represented interest or organizations,

• A completed background information nomination form (contact Sherry Foot at (801) 539-4195 to obtain a nomination form); and

• Any other information that highlights the nominee's qualifications.

The BLM Utah State Office will issue a press release, providing additional information, on November 26, 2004.

Dated: October 14, 2004.
Sally Wisely,
State Director.

[FR Doc. 04-26151 Filed 11-24-04; 8:45 am]

BILLING CODE 4310-$$-P